NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by May 27, 2009. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant—Permit Application No. 2010-001; Ross Virginia, 6182 Steele Hall, Dartmouth College, Hanover, NH 03755.

Activity for Which Permit Is Requested

Enter Antarctic Specially Protected Areas, Take, and Import into the USA. The applicant plans to enter Cape Bird, Ross Island, Cape Crozier (ASPA 124) and Cape Royds (ASPA 121) to collect soil and moss samples and point-measurements of CO2 flux using a LICOR gas analyzer. The applicant will sample these ornithogenic soils and associated microbial and plant life (moss and algae) to address the variable stoichiometric ratios of the rookeries that provide a contrast to the soils of the McMurdo Dry Valleys, whose native N and P contents are much lower and are largely determined by landscape history (N deposition, P weathering) and glacial till provenance. The variation in native soil N and P content may influence the ability of soil communities to respond to changes in nutrient availability associated with environmental change.

Location

Cape Bird, Ross Island, Cape Crozier (ASPA 124) and Cape Royds (ASPA 121).

Dates

December 10, 2009 to February 2, 2010.

Nadene G. Kennedy,
Permit Officer, Office of Polar Programs.

[FR Doc. E9-9510 Filed 4-24-09; 8:45 am]

BILLING CODE 7555-01-P